DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and the United States Fish and Wildlife Service (USFWS).

SUMMARY: The FHWA, on behalf of Caltrans, is issuing this notice to announce actions taken by Caltrans, and USFWS, that are final within the meaning of 23 U.S.C. 139(l)(1). The actions relate to a proposed highway project, on State Route 60 (SR-60) between Gilman Springs Road at Post Mile (PM) 22.10 and PM 26.61, located approximately 1.369 miles west of Jack Rabbit Trail, in a portion of unincorporated Riverside County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 14, 2016. If the Federal law that authorizes judicial review of a claim provides a time period of less than 150 days for filing such claim, then that shorter time period still applies.

FOR FURTHER INFORMATION CONTACT: For Caltrans: James Shankel, Senior Environmental Planner, California Department of Transportation District 8, Division of Environmental Planning, 464 West 4th Street, 6th Floor, MS 827, San Bernardino, California, 92401-1400, during normal business hours from 8:00 a.m. to 5:00 p.m., telephone (909) 383-6379, or email James.Shankel@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans and USFWS have taken final agency actions subject to 23 U.S.C. 139(l)(1) by issuing licenses, permits, and approvals for the following highway project in the State of California: Construction of an eastbound truck-climbing lane and westbound truck-descending lane, and construction of 10-foot inside and 12-foot outside shoulders in both directions—on a portion of State Route 60 (SR-60) located in unincorporated Riverside County, between Gilman Springs Road at Post Mile (PM) 22.10 and PM 26.61, which is approximately 1.369 miles west of Jack Rabbit Trail. The total length of the project is 4.51 miles. The purpose of the SR-60 Truck Lanes Project is to improve operational performance, improve safety, and improve traffic flow on the regional transportation system. The nearest incorporated cities are Moreno Valley, located adjacent to the west side of Gilman Spring Road and Beaumont, located approximately one mile east of the eastern limits of this project.

The actions by the Federal agencies, and the laws under which such actions were taken, are described in the Environmental Assessment (EA) with a Finding of No Significant Impact (FONSI) for the project, approved on May 16, 2016, and in other documents in the project records. The EA/FONSI, and other project records are available by contacting Caltrans at the address provided above. The Caltrans EA and FONSI can be viewed and downloaded from the project Web site at http://www.dot.ca.gov/dist8/Project-SR-60-Truck-Climbing.html. This notice applies to all Federal agency decisions as of the issuance date of this notice and all laws under which such actions were taken, including but not limited to:

1. Council on Environmental Quality regulations;

2. National Environmental Policy Act (NEPA) (42 U.S.C. 4321 et seq.);

3. Federal Aid Highway Act of 1970;

4. Moving Ahead for Progress in the 21st Century Act (MAP-21, Pub. L. 112-141);

5. Clean Air Act Amendments of 1990;

6. Noise Control Act of 1979;

7. 23 CFR part 772 FHWA Noise Standards, Policies and Procedures;

8. Department of Transportation Act of 1966, Section 4(f);

9. Clean Water Act of 1977 and 1987;

10. Endangered Species Act of 1973;

11. Migratory Bird Treaty Act;

12. National Historic Preservation Act of 1966, as amended;

13. Historic Sites Act of 1935;

14. Executive Order 11990— Protection of Wetlands;

15. Executive Order 12898— Environmental Justice;

16. Executive Order 13112—Invasive Species;

17. Uniform Relocation Assistance and Real Property Acquisition Act of 1970;

(Catalog of Federal Domestic Assistance Program Number 20.205, Highway Planning and Construction. The regulations implementing Executive Order 12372 regarding intergovernmental consultation on Federal programs and activities apply to this program.)

Authority: 23 U.S.C. 139(l)(1).

Shawn E. Oliver,
Team Leader, Program Development, Federal Highway Administration, Sacramento, CA.

[FR Doc. 2016-14390 Filed 6-16-16; 8:45 am]

BILLING CODE 4910-RY-P